Memorandum of October 11, 2017

Delegation of Certain Functions and Authorities Under the Countering America's Adversaries Through Sanctions Act of 2017

Memorandum for the Secretary of State[,] the Secretary of the Treasury[, and] the Secretary of Homeland Security

By the authority vested in me as President by the Constitution and the laws of the United States of America, including section 301 of title 3, United States Code, I hereby order as follows:

Section 1. (a) I hereby delegate to the Secretary of State the functions and authorities vested in the President by section 110 of the Countering America's Adversaries Through Sanctions Act of 2017 (Public Law 115-44) (the “Act”)

(b) I hereby delegate to the Secretary of State, in consultation with the Secretary of the Treasury, the functions and authorities vested in the President by the following provisions of the Act:

(i) section 104(b), with respect to a determination under the standard set forth in section 104(b)(1);

(ii) section 107(a), with respect to a determination under the standards set forth in section 107(a)(1) and (a)(2);

(iii) section 107(d), with respect to making the certification described therein;

(iv) section 108(b)(2);

(v) section 109; and

(vi) section 112.

(c) I hereby delegate to the Secretary of the Treasury the functions and authorities vested in the President by the following provisions of the Act:

(i) section 104(c)(1); and

(ii) section 107(b)(1).

(d) I hereby delegate to the Secretary of the Treasury, in consultation with the Secretary of State, the functions and authorities vested in the President by the following provisions of the Act:

(i) section 104(b), with respect to a determination under the standards set forth under section 104(b)(2) through (b)(6);

(ii) section 104(e);

(iii) section 106(b)(1);

(iv) section 108(a)(1); and

(v) section 108(b)(1).

(e) I hereby delegate to the Secretary of State and the Secretary of the Treasury the functions and authorities vested in the President by the following sections of the Act:

(i) section 105(b), to be exercised in consultation with each other and commensurate with their respective areas of responsibility set forth in previous Presidential actions under the International Emergency Economic Powers Act (50 U.S.C. 1701 et seq.), including Executive Order 13224 of September 23, 2001 (Blocking Property and Prohibiting Transactions With Persons Who Commit, Threaten To Commit, or Support Terrorism);

(ii) section 108(a)(2), to be exercised in consultation with each other and commensurate with their respective areas of responsibility set forth in Executive Order 13382 of June 28, 2005 (Blocking Property of Weapons of Mass Destruction Proliferators and Their Supporters) and Executive Order 13224; and

(iii) section 111(b), to be exercised commensurate with their respective areas of responsibility set forth in this memorandum.

(f) I hereby delegate to the Secretary of State, the Secretary of the Treasury, and the Secretary of Homeland Security the functions and authorities vested in the President by the following sections of the Act:

(i) section 104(b), to be exercised commensurate with their respective areas of responsibility or delegated authority under section 104(c), with respect to the imposition of sanctions following a determination under section 104(b); and

(ii) section 107(a), to be exercised commensurate with their respective areas of responsibility or delegated authority under section 107(b), with respect to the imposition of sanctions following a determination under section 107(a).

Sec. 2. The delegations in this memorandum shall apply to any provisions of any future public laws that are the same or substantially the same as those provisions referenced in this memorandum.

Sec. 3. The Secretary of State is authorized and directed to publish this memorandum in the Federal Register.

THE WHITE HOUSE,

Washington, October 11, 2017

[FR Doc. 2017-23617

Filed 10-26-17; 11:15 am]

Billing code 4710-10-P